DEPARTMENT OF THE INTERIOR

National Park Service

Notice of Intent To Prepare an Environmental Impact Statement for the General Management Plan Amendment, Dry Tortugas National Park, Florida

SUMMARY: Notice is hereby given that in accordance with the Environmental Policy Act of 1969, the National Park Service has begun preparation of an Environmental Impact Statement on the General Management Plan Amendment for Dry Tortugas National Park. The statement will assess potential environmental impacts associated with various types and levels of visitor use and resources management within the park. Specific issues to be addressed include appropriate levels and types of visitor use at various park sites, protection of near pristine resources such as coral reefs and seagrass beds, protection of submerged cultural resources, and management of commercial services to provide transportation, assistance in educating visitors and providing them with experience in keeping with the purpose of the park. The amendment and statement will build on the 1983 Master Plan for the area, and will conform to Director's Order—2, the planning guidance for National Park Service units that became effective May 27, 1998.

Dry Tortugas National Park boundaries encompass a cluster of seven coral reef and sand islands, shoals and water surrounding the island, and Fort Jefferson, the park's central cultural feature. Proclaimed as Fort Jefferson National Monument in 1935, the area was from the rulemaking record a respondent's identity, as allowable by law. If you wish for us to withhold your name and/or address, you must state this prominently at the beginning of your comment. However, we will not consider anonymous comments. We will make all submissions from organizations or businesses, and from individuals identifying themselves as representatives or officials of organizations or businesses, available for public inspection in their entirety.

SUPPLEMENTARY INFORMATION: The Draft and Final General Management Plan Amendment and Environmental Impact Statement will be made available to all known interested parties and appropriate agencies. Full public participation by federal, state, and local agencies as well as other concerned organizations and private citizens is invited throughout the preparation process of this document.

The responsible official for this environmental impact statement is Jerry Belson, Regional Director, Southeast Region, National Park Service, Atlanta Federal Center, 1924 Building, 100 Alabama Street, SW, Atlanta, Georgia 30303.

Dated: April 2, 2000.
Daniel W. Brown,
Regional Director, Southeast Region.

[FR Doc. 00-11652 Filed 5-9-00; 8:45 am]

BILLING CODE 4310-70-M